DEPARTMENT OF COMMERCE

Bureau of the Census

Federal Economic Statistics Advisory Committee

AGENCY: Bureau of the Census, Department of Commerce.

ACTION: Notice of Advisory Committee charter renewal.

SUMMARY: The Secretary of Commerce has determined that renewal of the charter of the Federal Economic Statistics Advisory Committee (FESAC) is necessary and in the public interest in connection with the performance of duties imposed by law on the U.S. Department of Commerce, and with the concurrence of the General Services Administration, established within the Economics and Statistics Administration (ESA), Department of Commerce. The renewed FESAC charter can be found on the Bureau of the Census' (Census Bureau's) Advisory Committee Web site at the following link: http://www.census.gov/fesac/.

FOR FURTHER INFORMATION CONTACT: James R. Spletzer, Designated Federal Official for the Federal Economic Statistics Advisory Committee, Principal Economist, U.S. Census Bureau, Room 5K019, Washington, DC 20233, telephone 301-763-4069, James.R.Spletzer@census.gov.

SUPPLEMENTARY INFORMATION: The Committee presents advice and makes recommendations to the Department of Labor, Bureau of Labor Statistics and the Department of Commerce's bureaus consisting of ESA, the Bureau of Economic Analysis, and the Census Bureau (the Agencies) from the perspective of the professional economics and statistics community. The Committee examines the Agencies' programs and provides advice on statistical methodology, research needed, and other technical matters related to the collection, tabulation, and analysis of Federal economic statistics.

The Committee is a technical committee that is balanced in terms of the professional expertise required. It consists of approximately 16 members, appointed by the Agencies. Its members are economists, statisticians, and behavioral scientists who are recognized for their attainments and objectivity in their respective fields.

The FESAC will function solely as an advisory body and in compliance with provisions of the Federal Advisory Committee Act. Pursuant to subsection 9(c) of the Federal Advisory Committee Act, 5 U.S.C., App., as amended, this charter was filed with the Chief Financial Officer and Assistant Secretary for Administration, Department of Commerce, on September 30, 2016. Subsequently, a copy was furnished to the Library of Congress and filed with the following Committees of Congress:

• Senate Committee on Appropriations;

• Senate Committee on Finance;

• Senate Committee on Commerce, Science and Transportation;

• Senate Committee on Homeland Security and Governmental Affairs;

• House Committee on Appropriations; and

• House Committee on Oversight and Government Reform.

Dated: November 8, 2016.
John H. Thompson,
Director, Bureau of the Census.

[FR Doc. 2016-27534 Filed 11-15-16; 8:45 am]

BILLING CODE 3510-07-P